DEPARTMENT OF ENERGY

Federal Energy Regulatory Commission

[Docket Nos. ER02-2001-020; ER12-327-000; ER12-2309-000; ER16-1458-000; ER12-733-001]

Electric Quarterly Reports; L&L Energy LLC; Bartram Lane LLC; Aspirity Energy, LLC; Promet Energy Partners, LLC; Notice of Revocation of Market-Based Rate Authority and Termination of Electric Market-Based Rate Tariff

On August 21, 2018, the Commission issued an order announcing its intent to revoke the market-based rate authority of the public utilities listed in the caption of that order, which included the companies listed in the caption above, which had failed to file their required Electric Quarterly Reports.¹ The Commission directed those public utilities to file the required Electric Quarterly Reports within 15 days of the date of issuance of the order or face revocation of their authority to sell power at market-based rates and termination of their electric market-based rate tariffs.²

¹ Electric Quarterly Reports, 164 FERC ¶ 61,122 (2018) (August 21 Order).

² Id. at Ordering Paragraph A.

The time period for compliance with the August 21 Order has elapsed. The above-captioned companies failed to file their delinquent Electric Quarterly Reports. The Commission hereby revokes, effective as of the date of issuance of this notice, the market-based rate authority and terminates the electric market-based rate tariff of each of the companies who are named in the caption of this order.

Dated: November 1, 2018.
Kimberly D. Bose,
Secretary.

[FR Doc. 2018-24330 Filed 11-6-18; 8:45 am]

BILLING CODE 6717-01-P